NATIONAL CREDIT UNION ADMINISTRATION

Submission for OMB Review; Comment Request

AGENCY: National Credit Union Administration (NCUA).

ACTION: Notice.

SUMMARY: The National Credit Union Administration (NCUA) will be submitting the following information collection requests to the Office of Management and Budget (OMB) for review and clearance in accordance with the Paperwork Reduction Act of 1995, Public Law 104-13, on or after the date of publication of this notice.

DATES: Comments should be received on or before February 24, 2017 to be assured of consideration.

ADDRESSES: Send comments regarding the burden estimate, or any other aspect of the information collection, including suggestions for reducing the burden, to (1) Office of Information and Regulatory Affairs, Office of Management and Budget, Attention: Desk Officer for NCUA, New Executive Office Building, Room 10235, Washington, DC 20503, or email at OIRA_Submission@OMB.EOP.gov and (2) NCUA PRA Clearance Officer, 1775 Duke Street, Alexandria, VA 22314, Suite 5067, or email at PRAComments@ncua.gov.

FOR FURTHER INFORMATION CONTACT: Copies of the submission may be obtained by emailing PRAComments@ncua.gov or viewing the entire information collection request at www.reginfo.gov.

SUPPLEMENTARY INFORMATION:

OMB Number: 3133-0176.

Title: Member Inspection of Credit Union Books, Records, and Minutes.

Abstract: Section 701.3 of NCUA's regulations establishes the circumstances and conditions under which Federal credit union (FCU) members may inspect and copy the FCU's books, records, and minutes of meetings. The collection of information requirements apply to FCU members seeking inspection and copying of the FCU's records and FCUs that receive such member requests. To obtain access to records, members are required to submit a petition to the FCU, stating a proper purpose for inspection and signed by at least one percent of the members, with a minimum of 20 and a maximum of 500 members. The FCU must permit inspection of relevant records if it receives such a petition.

The FCU uses the information in determining whether and upon what terms to provide records to members for inspection. The petition signatures collected by each FCU will be used by the FCU to verify the membership status of each petitioner.

Type of Review: Extension of a previously approved collection.

Affected Public: Individuals and Households; Private Sector: Not-for-profit institutions.

Estimated Total Annual Burden Hours: 360.

OMB Number: 3133-XXXX.

Title: Contractor's Diversity Profile.

Abstract: As part of NCUA's mission, the Office of Minority and Women Inclusion (OMWI) “implements standards and procedures to ensure, to the maximum extent possible, the fair inclusion and utilization of minorities, women, and minority-owned and women-owned businesses in all business activities of the agency.”

In accordance with Section 342 of the Dodd-Frank Act that OMWIs “include a written statement, in a form and with such content as the [OMWI] Director shall prescribe, that a contractor shall ensure, to the maximum extent possible, the fair inclusion of women and minorities in the workforce of the contractor and, as applicable, subcontractors,” each new contract award whose dollar value exceeds $100,000 (NCUA's Simplified Acquisition Threshold) will include a Good Faith Effort (GFE) Certification. This certification is included in the solicitation package and returned to NCUA as part the contractor's proposal, with the understanding that the contractor maybe required to provide documentation in support of certification. As part of this compliance review, selected contractors will be sent a Contractors Diversity Profile to provide documentation outlined in the GFE certification to NCUA. The contractor would provide current information on their diversity strategy, policies, recruitment, planning and outreach; and may be required to provide supporting documentation. The completed Profile is returned to NCUA 15 days after receipt by the contractor.

Type of Review: New collection.

Affected Public: Private Sector: Businesses or other for-profits.

Estimated Total Annual Burden Hours: 38.

By Gerard Poliquin, Secretary of the Board, the National Credit Union Administration, on January 19, 2017.
Dated: January 19, 2017.
Dawn D. Wolfgang,
NCUA PRA Clearance Officer.

[FR Doc. 2017-01654 Filed 1-24-17; 8:45 am]

BILLING CODE 7535-01-P